ENVIRONMENTAL PROTECTION AGENCY

40 CFR Part 52

[Region II Docket No. NJ53-245, FRL-7394-5]

Approval and Promulgation of Air Quality Implementation Plans; New Jersey; Open Market Emissions Trading Program

AGENCY: Environmental Protection Agency (EPA).

ACTION: Proposed rule; withdrawal.

SUMMARY: In a January 9, 2001 proposed rule (66 FR 1796), EPA proposed to conditionally approve a revision New Jersey requested to its State Implementation Plan for ozone. The request related to an Open Market Air Emissions Trading (OMET) Program which New Jersey had adopted.

In a June 24, 2002 letter to the New Jersey Department of Environmental Protection (NJDEP), EPA identified a number of problems with the New Jersey OMET program. New Jersey responded in an August 13, 2002 letter to EPA, indicating it agreed with many of the concerns EPA had raised and also identifying additional problems. The Commissioner of NJDEP informed EPA that the Program has failed and New Jersey should terminate the OMET Program, and that New Jersey would begin that process. Therefore, EPA is announcing its decision to cease processing the New Jersey revision request and to withdraw its January 9, 2001 proposed conditional approval. EPA intends to work with New Jersey to address compliance issues concerning sources that currently hold or have been using credits.

DATES: The proposed rulemaking is withdrawn as of October 18, 2002.

FOR FURTHER INFORMATION CONTACT: Richard Ruvo, Air Programs Branch, Environmental Protection Agency Region II, 290 Broadway, 25th Floor, New York, NY 10007-1866, (212) 637-4014.

List of Subjects in 40 CFR Part 52

Environmental protection, Air pollution control, Intergovernmental relations, Nitrogen dioxide, Ozone, Reporting and recordkeeping requirements, Volatile organic compounds.

Authority: 42 U.S.C. 7401 et seq.

Dated: October 7, 2002.
William J. Muszynski,
Deputy Regional Administrator, Region 2.

[FR Doc. 02-26440 Filed 10-17-02; 8:45 am]

BILLING CODE 6560-50-P